DEPARTMENT OF COMMERCE

National Oceanic and Atmospheric Administration

RIN 0648-XD960

Gulf of Mexico Fishery Management Council (Council); Public Meeting

AGENCY: National Marine Fisheries Service (NMFS), National Oceanic and Atmospheric Administration (NOAA), Commerce.

ACTION: Notice of public meeting of the Gulf of Mexico Fishery Management Council.

SUMMARY: The Gulf of Mexico Fishery Management Council (GMFMC) will hold meetings of the: Sustainable Fisheries/Ecosystem, Mackerel, and Data Collection Committees, Full Council (Closed Session) Scientific and Statistical and Reef Fish Advisory Panel Selection; Reef Fish, Shrimp and Joint Coral and Habitat Management Committees; in conjunction with a meeting of the Full Council. The Council will also hold a formal public comment session.

DATES: The Council meeting will be held from 8:30 a.m. on Monday, June 8 until 4 p.m. on Friday, June 12, 2015.

ADDRESSES: Meeting address: The meeting will be held at the Marriott Beachside Hotel, 3841 North Roosevelt Boulevard, Key West, FL 33040 (305) 296-8100.

Council address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630; fax: (813) 348-1711; email: doug.gregory@gulfcouncil.org.

SUPPLEMENTARY INFORMATION: The agenda items for discussion during each individual management committee meeting are as follows:

Sustainable Fisheries/Ecosystem Committee Agenda, Monday, June 8, 2015, 8:30 a.m. until 9:30 a.m.:

• Review of Draft Letter on National Standard 1 Proposed Revisions

• Review of Council Coordinating Committee (CCC) National Environmental Policy Act (NEPA) White Paper

Mackerel Management Committee Agenda, Monday, March 30, 2015, 9:30 a.m. until 11:30 a.m.:

• Final Action on Coastal Migratory Pelagics (CMP) Framework Amendment 3: Gulf of Mexico King Mackerel Gillnet Fishery Management Modifications

• Joint Draft Options Paper for CMP Amendment 26: Modifications to Allocations, Stock Boundaries, and Sale provisions for Gulf of Mexico and Atlantic Migratory Groups of King Mackerel

• Discussion of Potential CMP Amendment 28: Separating Permits for Gulf of Mexico and Atlantic Migratory Groups of King Mackerel

• Scoping Workshop Summaries on Proposed CMP Amendments 26 and 28

Data Collection Management Committee Agenda, Monday, June 8, 2015, 1 p.m. until 2:30 p.m.:

• Joint Options Paper for Electronic Charter Vessel Reporting

• Marine Recreational Information Program (MRIP) Fishing Effort Transition Plan

Scientific and Statistical Management Selection Committee Agenda, Full Council—CLOSED SESSION, Monday, June 8, 2015, 2:30 p.m. until 4:30 p.m.:

• Appointments to Scientific and Statistical Committees (SSC)

Reef Fish Advisory Panel Selection Committee Agenda, Full Council—CLOSED SESSION, Monday, June 8, 2015, 4:30 p.m. until 5:30 p.m.:

• Appointments to the Restructured Reef Fish Advisory Panel (AP)

— Recess —

Reef Fish Management Committee Agenda, Tuesday, June 9, 2015, 8:30 a.m. until 11:30 a.m. and 1 p.m. until 5 p.m.:

• SSC Review of Alternative Red Snapper Maximum Sustainable Yield (MSY) Proxies

• SSC Review of the effect of recalibrated recreational removals and recreational selectivity on estimates of Overfishing Limits (OFL), Acceptable Biological Catch (ABC), and MSY for Gulf Red Snapper

• Options Paper—Framework Action to set Gag Annual Catch Limit (ACL) and Recreational Season

• SSC Recommendations for Hogfish and Mutton Snapper OFL and ABC

• Options Paper—Joint Generic South Florida Management

• Updated Draft Amendment 28: Red Snapper Allocation

• Draft Framework Action to Allow NMFS to withhold a Portion of the Commercial Red Snapper Quota

• Revised Alternatives—Amendment 39: Regional Management of Recreational Red Snapper

• Scoping Summaries on Amendment 36: Red Snapper Individual Fishing Quota (IFQ) Modifications

• Grouper/Tilefish IFQ 5-Year Review

— Recess —

Reef Fish Management Committee Agenda continued, Wednesday, June 10, 2015, 8:30 a.m. until 9:30 a.m.:

• Report of the Ad Hoc Red Snapper Charter For-Hire Advisory Panel (AP)

• Report of the Ad Hoc Reef Fish Headboat AP

• Other Business

Shrimp Management Committee Agenda, Wednesday, June 10, 2015, 9:30 a.m. until 11 a.m.:

• Final Action on Shrimp Amendment 15: Status Determination Criteria for Penaeid Shrimp and Adjustments to the Shrimp Framework Procedure

• Draft Options Paper for Shrimp Amendment 17: Addressing the Expiration of the Shrimp Permit Moratorium

Joint Coral and Habitat Management Committee Agenda, Wednesday, June 10, 2015, 11 a.m. until 12 noon:

• Coral SSC and AP Summary Report

Council Session Agenda, Wednesday, June 10, 2015, 1:30 p.m. until 5:30 p.m.

1:30 p.m.-1:45 p.m.: Call to Order, Announcements, Introductions, Adoption of Agenda and Approval of Minutes

1:45 p.m.-2 p.m.: Review of and Vote on Exempted Fishing Permits (EFPs), if any.

2:15 p.m.-3:30 p.m.: The Council will receive presentations reviewing changes from proposed to final rule implementation of the Gulf Aquaculture Fishery Management Plan (FMP), Florida Keys National Marine Sanctuary Issues, Spawning Potential Ratios, and Southeast Data Assessment and Review (SEDAR).

3:30 p.m.-5:30 p.m.: The Council will receive public testimony for Final Action on Framework Action: Modifications to the Commercial King Mackerel Gillnet Fishery in the Gulf of Mexico, Final Action on Shrimp Amendment 15: Status Determination Criteria for Penaeid Shrimp and Adjustments to the Shrimp Framework Procedure, Revised Reef Fish Amendment 28—Red Snapper Allocation; and open public comment regarding other fishery issues or concerns.

— Recess —

Joint Council Session with South Atlanta Council Agenda (Doubletree Hotel), Thursday, June 11, 2015, 8:45 a.m. until 5:30 p.m.:

8:45 a.m.-5:30 p.m.: The councils will receive committee reports from the Data Collection, Mackerel and Reef Fish Management Committees.

Council Session Agenda, Friday, June 12, 2015, 8:30 a.m.—4 p.m.:

8:30 a.m.-12 noon: The Council will continue to receive committee reports from Reef Fish, Mackerel, and Sustainable Fisheries/Ecosystem Management Committees.

— Recess —

1:30 p.m.-3:30 p.m.: The Council will receive a committee report from the Shrimp, Joint Habitat/Coral, and SSC Panelists and AP Members Selected.

3:30 p.m.-4 p.m.: The Council will review Other Business. A presentation on the Gulf of Mexico Habitat Mapping and Water Quality Monitoring Project.

— Adjourn —

The Agenda is subject to change, and the latest version will be posted on the Council's file server, which can be accessed by going to the Council Web site at http://www.gulfcouncil.org and clicking on FTP Server under Quick Links. For meeting materials see folder “Briefing Books/Briefing Book 2015-06” on Gulf Council file server. The username and password are both “gulfguest”. The meetings will be Webcast over the Internet. A link to the Webcast will be available on the Council's Web site, http://www.gulfcouncil.org.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Authority: 16 U.S.C. 1801 et seq.

Dated: May 19, 2015.
Tracey L. Thompson,
Acting Deputy Director, Office of Sustainable Fisheries, National Marine Fisheries Service.

[FR Doc. 2015-12507 Filed 5-21-15; 8:45 am]

BILLING CODE 3510-22-P